DEPARTMENT OF AGRICULTURE

Natural Resources Conservation Service

West Fork Kickapoo River Watershed, Vernon County, Wisconsin

AGENCY: Natural Resources Conservation Service.

ACTION: Notice of a Finding of No Significant Impact.

SUMMARY: Pursuant to section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the West Fork Kickapoo River Watershed, Vernon County, Wisconsin.

FOR FURTHER INFORMATION CONTACT: Tom Krapf, Water Resources Staff Leader, Natural Resources Conservation Service, 6515 Watts Road, Suite 200, Madison, Wisconsin, 53719. Telephone (608) 276-8732, extension 232.

SUPPLEMENTARY INFORMATION: The environmental assessment of this federally assisted action indicates that the project will not cause significant local, regional, or national impacts on the environment. As a result of these findings, Patricia S. Leavenworth, State Conservationist, has determined that the preparation and review of an environmental impact statement are not needed for this project. The project purpose is flood prevention. The planned work of improvement includes the upgrade of the dam to meet class (c) high hazard criteria.

The Notice of a Finding of No Significant Impact (FONSI) has been forwarded to the Environmental Protection Agency and to various federal, state, and local agencies and interested parties. A limited number of copies of the FONSI are available to fill single copy requests at the above address. Basic data developed during the environmental assessment are on file and may be reviewed by contacting Tom Krapf.

No administrative action on implementation of the proposal will be taken until 30 days after the date of this publication in the Federal Register.

Dated: January 4, 2003.
Patricia S. Leavenworth,
State Conservationist.

Finding of No Significant Impact for West Fork Kickapoo River Watershed-Supplement, Vernon County, Wisconsin

Introduction

The West Fork Kickapoo River Watershed is a federally assisted action authorized for planning under Public Law 83-566, the Watershed Protection and Flood Prevention Act. An environmental assessment was undertaken in conjunction with the development of the watershed plan-supplement. This assessment was conducted in consultation with local, state, and federal agencies as well as with interested organizations and individuals. Data developed during the assessment are available for public review at the following location: U.S. Department of Agriculture, Natural Resources Conservation Service (NRCS), 6515 Watts Road, Suite 200, Madison, WI 53719.

Recommended Action

The size of Klinkner Dam will be increased to meet NRCS class (c) criteria. This will consist of raising the height of the dam, widening the auxiliary spillway, increasing the size of the principal spillway, adding a riser to provide sediment storage, treatment of the abutments if geologic exploration indicates this is needed, and installing a flood warning system.

Effect of Recommended Action

The recommended action will extend the life of Klinkner Dam for an additional 50 years. It will provide increased protection for homes and a school in the hydraulic shadow of the dam and will meet state requirements for a high hazard dam.

The proposed action will have no effect on wetlands.

An initial survey for any cultural resources that may be impacted by the project was conducted. The survey concludes that no significant adverse impacts will occur to cultural resources in the watershed should the plan be implemented. The NRCS has consulted with the State Historic Preservation Office (SHPO) on the effects that planned measures will have on significant cultural resources. Significant cultural resources identified during implementation will be avoided or otherwise preserved in place to the fullest practical extent. If significant cultural resources cannot be avoided or preserved, pertinent information will be recovered before construction. If there is a significant cultural resource discovery during construction, appropriate notice will be made by NRCS to the State Historic Preservation Officer and the National Park Service. Consultation and coordination have been and will continue to be used to ensure the provisions of Section 106 of Public Law 89-665 have been met and to include provisions of Public Law 89-523, as amended by Public Law 93-291. NRCS will take action as prescribed in the NRCS General Manual (GM) 420, Part 401, to protect or recover any significant cultural resources discovered during construction.

No threatened or endangered species in the watershed will be affected by the project.

No wilderness areas are within the watershed.

Little impact will be made on scenic values. Project Sponsors will be required to enact a floodplain-zoning ordinance, which restricts development in the hydraulic shadow of Klinkner Dam prior to any federal reimbursement for relocation expenses.

No significant adverse environmental impacts will result from installations.

Alternatives

The planned action is the most practical means of protecting the watershed, minimizing the threat to loss of life, and complying with the Wisconsin Department of Natural Resources requirements. The Sponsors considered the following alternatives:

(1) No Action

The No Action alternative was not a viable option, since the dam does not meet the Wisconsin Department of Natural Resources dam hazard classification criteria.

(2) Structural and Non-Structural Rehabilitation

This alternative would relocate the four homes and a school located in the hydraulic shadow of the dam. The dam would also need to be upgraded to meet current class “a” requirements.

(3) Structural Rehabilitation

This is the recommended action.

(4) Dam Removal (Decommissioning)

This alternative does not meet the project purpose because it does not reduce the risk of loss of life and it does not maintain flood control or watershed protection, and therefore it was not considered further.

(5) Non-Structural

This alternative consists of removal of the homes and school from the hydraulic shadow but no repairs would be made to the dam. Under this alternative the dam would fail and all flood control and watershed protection afforded by the dam would be lost. Therefore it was not considered further.

Consultation and Public Participation

Copies of the Plan Supplement have been sent out to the single point of contact for the State of Wisconsin, Wisconsin Department of Natural Resources, Wisconsin Department of Agriculture, Trade, and Consumer Protection, Wisconsin Department of Emergency Government, U.S. Fish and Wildlife Service, U.S. Forest Service, U.S. Environmental Protection Agency, U.S. Army Corps of Engineers, the Wisconsin State Clearinghouse, and the West Central Regional Planning Commission. The document was distributed to American Indian Tribes that have expressed interest in consulting with federal agencies in projects in Vernon County. The project sponsor, Vernon County, has met with the Amish community leaders to discuss the project. The Amish have a school located in the hydraulic shadow of the dam.

A scoping meeting was advertised and held on December 10, 2001 and interdisciplinary efforts were used in the planning process. In addition to the general public, one federal agency (NRCS), two state agencies (DNR, SHPO), and three county agencies (Land Conservation Department, County Zoning Office, County Administration Department), and local conservation organizations were invited to participate in the scoping and planning process.

Specific consultation was conducted with the State Historic Preservation Officer and the county historical society concerning cultural resources in the watershed.

The environmental assessment was transmitted to all participating and interested agencies, groups, and individuals for review and comment on September 15, 2002. Public meetings were held as needed to keep all interested parties informed of the study progress and to obtain public input to the plan and environmental evaluation.

Agency consultation and public participation to date have shown no unresolved conflicts with the implementation of the selected plan.

Conclusion

The Environmental Assessment summarized above indicates that this Federal action will not cause significant local, regional, or national impacts on the environment. Therefore, based on the above findings, I have determined that an environmental impact statement for the West Fork Kickapoo River Watershed Plan Supplement is not required.

Dated: January 4, 2003.
Patricia S. Leavenworth,
State Conservationist.

[FR Doc. 03-1185 Filed 1-17-03; 8:45 am]

BILLING CODE 3410-16-P